DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. Blocking of Property and Interests in Property Pursuant to E.O. 14014

On October 31, 2023, OFAC determined that the property and interests in property subject to U.S. jurisdiction of the following persons are blocked under the relevant sanctions authority listed below.

Individuals

1. AUNG, Swe Swe, Burma; DOB 1960; nationality Burma; Gender Female (individual) [BURMA-EO14014].

Designated pursuant to section 1(a)(iii)(B) of Executive Order 14014 of February 10, 2021, “Blocking Property With Respect to the Situation in Burma”, 86 FR 9429 (“E.O. 14014”) for being or having been a leader or official of the Government of Burma on or after February 2, 2021.

2. MIN, Zaw, Burma; DOB 1970; nationality Burma; Gender Male (individual) [BURMA-EO14014].

Designated pursuant to section 1(a)(iii)(B) of E.O. 14014 for being or having been a leader or official of the Government of Burma on or after February 2, 2021.

3. THAN, Charlie, Room No 23, Building No 25, Palm Village Villa, Yankin Yanshin Street, Yangon, Burma; DOB 1950; nationality Burma; Gender Male (individual) [BURMA-EO14014].

Designated pursuant to section 1(a)(iii)(B) of E.O. 14014 for being or having been a leader or official of the Government of Burma on or after February 2, 2021.

4. AYE, Maung Maung (a.k.a. “AYE, Mg Mg”), Burma; DOB 1962; POB Burma; nationality Burma; Gender Male (individual) [BURMA-EO14014].

Designated pursuant to section 1(a)(iii)(A) of E.O. 14014 for being or having been a leader or official the military or security forces of Burma, or any successor entity to any of the foregoing.

5. ZAW, Kan, Burma; DOB 11 Oct 1954; POB Salin Township, Magwe Region, Burma; nationality Burma; Gender Male (individual) [BURMA-EO14014].

Designated pursuant to section 1(a)(iii)(B) of E.O. 14014 for being or having been a leader or official of the Government of Burma on or after February 2, 2021.

Entities

1. SKY ROYAL HERO COMPANY LIMITED (a.k.a. SKY ROYAL HERO LTD; a.k.a. “SKY ROYAL HERO”), No. LB-B2-14A, B, Sagawah Street, Malikha Housing, 14/Bawamyint Quarter, Thingangyun Township, Yangon, Burma; Organization Established Date 28 Nov 2019; Organization Type: Non-specialized wholesale trade; Business Registration Number 123614291 (Burma) [BURMA-EO14014].

Designated pursuant to section 1(a)(i) of E.O. 14014 for operating in the defense sector of the Burmese economy.

2. SUNTAC TECHNOLOGIES COMPANY LIMITED (a.k.a. SUNTAC GROUP; a.k.a. SUNTAC TECHNOLOGIES; a.k.a. SUNTAC TECHNOLOGIES CO., LTD.), Room 5, 7, 8, Building 5, Building 8, MICT Park, Hlaing Township, Yangon Region, Burma; Bldg 5, Room 5/7/8/12 Myanmar ICP Park, Hlaing Po 1052 Township, Yangon, Burma; Organization Established Date 28 Dec 2000; Organization Type: Mining of hard coal; alt. Organization Type: Mining of lignite; Business Registration Number 181472561 (Burma) [BURMA-EO14014] (Linked To: AUNG, Sit Taing).

Designated pursuant to section 1(a)(vii) of E.O. 14014 for being owned or controlled by, or having acted or purported to act for or on behalf of, directly or indirectly, Sit Taing Aung, a person whose property and interests in property are blocked pursuant to E.O. 14014.

3. SUNTAC INTERNATIONAL TRADING COMPANY LIMITED (a.k.a. SUN TAC INTERNATIONAL TRADING CO., LIMITED; a.k.a. SUN TEC INTERNATIONAL TRADING CO., LIMITED; a.k.a. SUNTAC GROUP; a.k.a. SUNTAC GROUP OF COMPANIES; a.k.a. SUNTAC INTERNATIONAL TRADING CO., LIMITED; a.k.a. SUNTEC INTERNATIONAL TRADING CO., LIMITED; a.k.a. “SUN TEC”; a.k.a. “SUNTAC”), Thiriyadanar Shopping Complex, No. 177, Zabu Thiri Township, Nay Pyi Taw, Burma; 151 B Thiri Mingalar Lane, Mayangon Township, Yangon, Burma; Organization Established Date 03 Jul 1996; Organization Type: Management consultancy activities [BURMA-EO14014] (Linked To: AUNG, Sit Taing).

Designated pursuant to section 1(a)(vii) of E.O. 14014 for being owned or controlled by, or having acted or purported to act for or on behalf of, directly or indirectly, Sit Taing Aung, a person whose property and interests in property are blocked pursuant to E.O. 14014.

B. Persons Determined To Be Subject to Directive 1 Under E.O. 14014

On October 31, 2023, OFAC determined that the following entity (a) is a political subdivision, agency, or instrumentality of the Government of Burma; and (b) shall, on the effective date below, be subject to the prohibitions of Directive 1 under E.O. 14014, “Prohibitions Related to Financial Services to or for the Benefit of Myanma Oil and Gas Enterprise.” These names have been placed on OFAC's Non-SDN Menu-Based Sanctions List.

1. MYANMA OIL AND GAS ENTERPRISE (a.k.a. “M.O.G.E.”; a.k.a. “MOGE”), Complex No. 44, Nay Pyi Taw, Naypyidaw Union Territory, Burma; Building No. 6, Nay Pyi Taw, Burma; Organization Established Date 1963; Organization Type: Extraction of crude petroleum; Target Type State-Owned Enterprise; Executive Order 14014 Directive Information: Subject to Directive 1—As of the effective date, the provision, exportation, or reexportation, directly or indirectly, of financial services to or for the benefit of Myanma Oil and Gas Enterprise (MOGE) or its property or interests in property is prohibited.; alt. Executive Order 14014 Directive Information: For more information on directives, please visit the following link: https://ofac.treasury.gov/sanctions-programs-and-country-information/burma#directives; Listing Date (E.O. 14014 Directive 1): 31 Oct 2023; Effective Date (E.O. 14014 Directive 1): 15 Dec 2023 [BURMA-EO14014].

Authority: E.O. 14014, 86 FR 9429.

Dated: October 31, 2023.
Bradley T. Smith,
Director, Office of Foreign Assets Control, U.S. Department of the Treasury.

[FR Doc. 2023-24308 Filed 11-2-23; 8:45 am]

BILLING CODE 4810-AL-P